DEPARTMENT OF DEFENSE

Office of the Secretary

32 CFR Part 199

[DOD-2007-HA-0048]

RIN 0720-AB19

TRICARE; Hospital Outpatient Prospective Payment System (OPPS): Delay of Effective Date and Additional Opportunity for Public Comment

AGENCY: Office of the Secretary, Department of Defense.

ACTION: Final rule; delay of effective date and opportunity for public comment.

SUMMARY: On December 10, 2008, DoD published a final rule implementing the TRICARE Hospital Outpatient Prospective Payment System (OPPS), with an effective date of February 9, 2009 (73 FR 74945). Since that date, DoD has determined that in order for administrative claims processing procedures to be fully in place to implement effectively the new OPPS payments, TRICARE's OPPS will begin to apply to health care services provided on or after May 1, 2009. In the meantime, a memorandum of January 20, 2009, from the Assistant to the President and Chief of Staff, entitled “Regulatory Review,” published in the Federal Register on January 26, 2009, calls for agencies to consider delaying effective dates of rules not yet effective and inviting new public comment. In view of both of these developments, the Department is delaying the effective date of TRICARE's OPPS until May 1, 2009, and is inviting additional public comment on the final rule. Any timely public comments received will be considered and any changes to the final rule will be published in the Federal Register.

DATES: The effective date of the OPPS final rule published December 10, 2008 (73 FR 74945) is delayed until May 1, 2009. Comments must be received on or before March 9, 2009.

ADDRESSES: You may submit comments, identified by docket number and/or Regulatory Information Number (RIN) and title, by either of the following methods:

• Federal eRulemaking Portal: http://www.regulations.gov. Follow the instructions for submitting comments.

• Mail: Federal Docket Management System Office, 1160 Defense Pentagon, Washington, DC 20301-1160.

Instructions: All submissions received must include the agency name and docket number or RIN for this Federal Register document. The general policy for comments and other submissions from members of the public is to make these submissions available for public viewing on the Internet at http://regulations.gov as they are received without change, including any personal identifiers or contact information.

FOR FURTHER INFORMATION CONTACT: David E. Bennett or Martha M. Maxey, TRICARE Management Activity, Medical Benefits and Reimbursement Branch, telephone (303) 676-3494 or (303) 676-3627.

Dated: February 3, 2009.
Patricia L. Toppings,
OSD Federal Register Liaison Officer, Department of Defense.

[FR Doc. E9-2562 Filed 2-5-09; 8:45 am]

BILLING CODE 5001-06-P